AMTRAK REFORM COUNCIL

Notice of Meeting

AGENCY: Amtrak Reform Council.

ACTION: Notice of Special Public Business Meeting and Press Conference in Washington, DC.

SUMMARY: As provided in section 203 of the Amtrak Reform and Accountability Act of 1997 (Reform Act), the Amtrak Reform Council (Council) gives notice of a special public meeting of the Council. The business meeting will begin at 9:30 a.m. The Council's agenda for business meeting includes formal adoption of the Second Annual Report, election of Chairman and Vice-Chairman, and discussion of goals and schedules for upcoming business meetings.

During the Press Conference, which will begin at 10:30 a.m. at the same location, the Council will release its Second Annual Report to Congress. The press conference will open with a statement from the Chairman, Gilbert E. Carmichael, followed by a briefing on the key features of the report, and statements by members of the Council. Following these statements, the Council will take questions from the press and the public.

DATES: The Business Meeting will be held on Tuesday, March 20, 2001 from 9:30 a.m. to 10:30 a.m., followed by a Press Conference from 10:30 a.m. to 12:00 p.m. Both events are open to the public.

ADDRESSES: The Business Meeting will take place in the Ballroom at the Phoenix Park Hotel on 520 North Capitol Street, NW., Washington, DC. The Ballroom is located on the first floor to the left of the front desk. The location is on the corner of North Capitol Street, NW., and Massachusetts Ave, NW. The nearest Metro Station is Union Station, which is about a block away. Persons in need of special arrangements should contact the person listed below.

FOR FURTHER INFORMATION CONTACT: Deirdre O'Sullivan, Amtrak Reform Council, Room 7105, JM-ARC, 400 Seventh Street, SW., Washington, DC 20590, or by telephone at (202) 366-0591; FAX: 202-493-2061. For information regarding ARC's upcoming events, the agenda for meetings, the ARC's First Annual Report, information about ARC Council Members and staff, and much more, you can also visit the Council's website at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The ARAA prescribes that the Council is to consist of eleven members, including the Secretary of Transportation and ten others nominated by the President and the leadership of the Congress. Members serve a five-year term.

Issued in Washington, DC, March 6, 2001.
Thomas A. Till,
Executive Director.

[FR Doc. 01-6117 Filed 3-12-01; 8:45 am]

BILLING CODE 4910-06-P